DEPARTMENT OF HOUSING AND URBAN DEVELOPMENT

24 CFR Chapter IX

[Docket No. FR-6050-N-03]

Relief From HUD Public Housing and Section 8 Requirements Available During CY 2019 to Public Housing Agencies To Assist With Recovery and Relief Efforts on Behalf of Families Affected by Presidentially Declared Major Disasters

AGENCY: Office of the Assistant Secretary for Public and Indian Housing, HUD.

ACTION: Notification.

SUMMARY: This notification advises the public that HUD, in order to more effectively and expeditiously respond to Presidentially declared Major Disaster Declarations (MDD), is establishing for calendar year (CY) 2019 an expedited process for the review of requests for relief from HUD regulatory and/or administrative requirements (“HUD requirements”) for Public Housing Agencies (PHAs) located in counties that are included in MDDs. PHAs located in areas covered by MDDs issued for which a related disaster occurs during CY 2019 may request waivers of certain HUD Public Housing and Section 8 requirements and receive expedited review of such requests utilizing the flexibilities and expedited waiver process set out by this notification.

DATES: The flexibilities set out in this document are effective October 9, 2019.

FOR FURTHER INFORMATION CONTACT: Tesia Irinyenikan, Office of Field Operations, Office of Public and Indian Housing, Department of Housing and Urban Development, 451 Seventh Street SW, Room 3180, Washington, DC 20410-5000, or email PIH_Disaster_Relief@hud.gov. Persons with hearing or speech impairments may access this number via TTY by calling the Federal Information Relay Service at 800-877-8339.

SUPPLEMENTARY INFORMATION:

I. Background Information

On several occasions in recent years, after Presidential disaster declarations, HUD has published documents announcing waivers and flexibilities available to PHAs, Tribes, and Tribally Designated Housing Entities (TDHEs) located in areas covered by MDDs.¹ In the interest of expediting HUD's ability to provide administrative relief to PHAs in MDD declaration areas, based on HUD's past experience, HUD is publishing this notification on waivers and flexibilities that will be made available to PHAs on an expedited basis following MDDs. The notification is organized as follows:

¹ See, Regulatory and Administrative Waivers Granted for Public and Indian Housing Programs to Assist with Recovery and Relief in Hurricane Katrina Disaster Areas, 70 FR 57716 (October 3, 2005); Regulatory and Administrative Waivers Granted for Public and Indian Housing Programs to Assist with Recovery and Relief in Hurricane Rita Disaster Areas; and Additional Administrative Relief for Hurricane Katrina, 70 FR 66222 (November 1, 2005); Extension of Regulatory and Administrative Waivers Granted for Public and Indian Housing Programs to Assist With Recovery and Relief in Hurricanes Katrina, Rita, and Wilma Disaster Areas, 71 FR 78022 (December 27, 2006); Regulatory and Administrative Waivers Granted for Public and Indian Housing Programs to Assist with Recovery and Relief in Hurricane Wilma Disaster Areas, 71 FR 12988 (March 13, 2006); Regulatory and Administrative Waivers Granted for Public and Indian Housing Programs to Assist with Recovery and Relief in Superstorm Sandy Disaster Areas, 77 FR 71439 (November 30, 2012); Relief From HUD Requirements Available to PHAs to Assist With Recovery and Relief Efforts on Behalf of Families Affected by Hurricanes Harvey, Irma, Maria and Future Natural Disasters Where Major Disaster Declarations Might be Issued in 2017, 82 FR 46821 (October 6, 2017) and; Relief From HUD Requirements Available During Calendar Year (CY) 2018 to Public Housing Agencies To Assist With Recovery and Relief Efforts on Behalf of Families Affected by Presidentially-Declared Major Disasters, 83 FR 46180 (September 12, 2018).

• Section II describes the flexibilities that are currently available to MDD PHAs under statutes and/or regulations. MDD PHAs may avail themselves of these flexibilities, following the process described in Section IV of the notification.

• Section III describes certain HUD requirements that, if waived, may facilitate an MDD PHA's ability to participate in relief and recovery efforts. An MDD PHA may request a waiver of a HUD requirement not listed in Section IV and receive expedited review of the request if the MDD PHA demonstrates that the waiver is needed to assist in its relief and recovery efforts. An MDD PHA may not adopt any requested waiver prior to receiving HUD approval.

• Section IV provides the instructions for submitting waiver requests.

• Section V States that a Finding of No Significant Impact (FONSI) with respect to the environment has been made in accordance with HUD regulations at 24 CFR part 50, which implement section 102(2)(C) of the National Environmental Policy Act of 1969 (42 U.S.C. 4332(2)(C)).

Waiver requests approved by HUD pursuant to this notification will be published in the Federal Register and will identify the MDD PHAs receiving such approvals. The process that HUD will use in assessing applications for waivers and flexibilities is covered below-

This notification applies only during CY 2019.

II. Flexibilities That Are Available to MDD PHAs During CY 2019

HUD is exercising discretionary authority from section 106 of the Department of Housing and Urban Development Act of 1989 and consistent with 24 CFR 5.110 to provide relief from the requirements described in this section of this notification. Upon application to HUD and appropriate documentation of good cause, HUD may approve, as noted below, regulatory relief for disaster relief and recovery to MDD PHAs. Unless otherwise stated, the deadline for requesting waivers is four months after the initial MDD.

A. 24 CFR 905.306 (Extension of deadline for obligation and expenditure of Capital Funds). Section 9(j)(1) of the United States Housing Act of 1937 (1937 Act) requires PHAs to obligate Capital Funds not later than 24 months after the date on which the funds became available, or the date on which the PHA accumulates adequate funds to undertake modernization, substantial rehabilitation, or new construction of units, plus the period of any extension approved under section 9(j)(2) of the Act. Section 9(j)(5)(A) of the 1937 Act requires a PHA to expend Capital Funds not later than four years after the date on which the funds become available for obligation, plus the period of any extension approved under section 9(j)(2). Section 9(j)(2) of the 1937 Act authorizes the Secretary to extend the time period for the obligation of Capital Funds for such period as the Secretary determines necessary if the Secretary determines that the failure of the PHA to obligate assistance in a timely manner is attributable to an event beyond the control of the PHA. The authority for extension of the section 9(j) obligation and extension deadlines for an event beyond the control of the PHA made in this notification is also found in the implementing regulation at 24 CFR 905.306 (d)(5).

B. 24 CFR 984.105(d) (Family Self-Sufficiency minimum program size). 24 CFR 984.105(d) defines the circumstances under which a PHA may, upon HUD approval, operate a program that is smaller than the required program size. HUD has determined, based on its past experience with MDD's, that a major disaster may hinder a PHA's ability to operate a program that meets minimum program size requirements. As a result, upon the submission to HUD of a certification (as defined in 24 CFR 984.103) that the MDD PHA is unable to operate a program that meets minimum program size requirements due to the major disaster, HUD will grant an exemption from the minimum program size requirement for a period of 24 months from the effective date of this notification.

C. 24 CFR 990.145(b) (Public housing dwelling units with approved vacancies). Section 990.145 lists the categories of vacant public housing units that are eligible to receive operating subsidy and are therefore considered to be “approved vacancies.” Under Section 990.145(b)(2), a PHA shall receive operating subsidy for units that are vacant due to a federally declared, state declared or other declared disaster, subject to prior HUD approval, on a project-by-project basis. If an MDD PHA has a unit that has been vacated due to a Presidentially-declared disaster, then the MDD PHA, with HUD approval, may treat the unit as an “approved vacancy.” Upon the request of an MDD PHA and HUD approval, on a case-by-case basis, such units may be considered approved vacancies for a period not to exceed 12 months from the date of HUD approval.

III. HUD Requirements That May Be Waived

For an MDD PHA, HUD will review requests for waivers of HUD requirements on an expedited basis. This section lists procedural and substantive requirements for regulatory waivers in event of an MDD. An MDD PHA may also request a waiver of a HUD requirement not listed in this section and receive expedited review of the request if the MDD PHA documents that the waiver is needed for major disaster relief and/or recovery.

PHAs should note that waivers of essential program requirements such as property inspection or income verification will not be granted in their entirety although modifications or requirements may be considered. Also, HUD's ability to grant waivers or approval alternative requirements imposed by statute is limited to express statutory authority. PHAs should go through the hierarchy of verifying income as found in PIH Notice 2018-24 if sources of income are difficult to find. Similarly, while the requirement for HQS inspections cannot be waived, HUD can consider variations to the acceptability criteria to HQS in case of disaster (under the authority of § 982.401(a)(4)).

An MDD PHA seeking a waiver of a HUD requirement listed below or of any other HUD requirement needed to assist the MDD PHA in its relief and recovery efforts must submit a waiver request pursuant to the process that will be provided in a further notification. HUD will not approve an MDD PHA's or other recipient's request to waive a fair housing, civil rights, labor standards, or environmental protection requirement. The request must be submitted to HUD not later than 4 months following the date of the relevant disaster declaration.

A. 24 CFR 5.801(c) and 5.801(d)(1) (Uniform financial reporting standards; Filing of financial reports; Reporting compliance dates). Section 5.801 establishes uniform financial reporting standards (UFRS) for PHAs (and other entities). Section 5.801(c) requires that PHAs submit financial information in accordance with 24 CFR 5.801(b) annually, not later than 60 days after the end of the fiscal year of the reporting period. Section 5.801(d)(1) requires that PHAs submit their unaudited financial statements not later than 60 calendar days after the end of their fiscal year and that PHAs submit their audited financial statements not later than 9 months after the end of their fiscal year. HUD is willing to consider requests to extend these reporting deadlines.

For MDD PHAs with a deadline to submit only audited financial information in accordance with 24 CFR 5.801(b) and (d) within 6 months after the date of the disaster related to the MDD, HUD is willing to consider a request to waive the due date. For MDD PHAs with a deadline to submit unaudited financial information in accordance with 24 CFR 5.801(b) and (d) within 4 months before and up to 6 months after the date of the disaster related to the MDD, HUD is willing to consider a request to waiver the due date. For these PHAs, HUD also is willing to consider a request to waive the due date of the audited financial information. For situations beyond a PHA's control, HUD is willing to consider requests from the MDD PHAs with financial submission due dates that fall outside these dates.

The deadline for submission of financial information in accordance with 24 CFR 5.801(b) and the deadline for submission of unaudited financial statement may be extended to 180 calendar days, and the deadline for submission of audited financial statements may be extended to 13 months.

B. 24 CFR 902 (Public Housing Assessment System). Part 902 sets out the indicators by which HUD measures the performance of a PHA. The indicators measure a PHA's physical condition, financial condition, management operations, and Capital Fund obligation and occupancy.

For MDD PHAs with FYE dates within 4 months before and up to 10 months after the effective date of the MDD, HUD is willing to consider a request to waive the physical inspection and scoring of public housing projects, as required under 24 CFR part 902. For situations beyond the PHA's control, HUD is willing to consider requests from MDD PHAs with a FYE date that falls outside these dates.

C. 24 CFR 905.322(b) (Fiscal closeout). Section 905.322(b) establishes deadlines for the submission of an Actual Development Cost Certificate (ADCC) and an Actual Modernization Cost Certificate (AMCC). Specifically, the ADCC must be submitted 12 months from the date of completion/termination of a modernization activity, and the AMCC must be submitted not later than 12 months from the activity's expenditure deadline. Upon request from an MDD PHA, HUD may extend these deadlines by 12 months.

D. 24 CFR 905.314(b)-(c) (Cost and other limitations; Maximum project cost; TDC limit). 42 U.S.C. 1437d(b) requires HUD to calculate total development costs, which may not be exceeded “unless the Secretary provides otherwise, and in any case may not exceed 110 per centum of such amount unless the Secretary for good cause determines otherwise.” Section 905.314(b)-(c) establishes the calculation of maximum project cost and the calculation of total development cost. To facilitate the use of Capital Funds for repairs and construction for needed housing in the disaster areas, HUD is willing to consider waiving the total development cost (TDC) and housing cost cap limits for all work funded by the Capital Grant (with unexpended Capital Grant funds and HOPE VI funds) until the next issuance of TDC levels. MDD PHAs that request to waive this provision and receive approval to do so must strive to keep housing costs reasonable given local market conditions, based upon the provisions outlined in 2 CFR part 200.

E. 24 CFR 905.314(j) (Cost and other limitations; Types of labor). This section establishes that non-high performer PHAs may use force account labor for modernization activities only when the use of force account labor for such activities has been included in a Board-approved Capital Fund Program 5-Year Action Plan. HUD may waive this requirement to allow for the use of force account labor for modernization activities even if this activity has not been included in the non-high performer MDD PHA's 5-Year Action Plan. Should HUD waive this requirement, the waiver will be in effect for a period not to exceed 12 months from the date of HUD approval.

F. 24 CFR 905.400(i)(5) (Capital Fund Formula; Replacement Housing Factor to reflect formula need for projects with demolition or disposition occurring on or after October 1, 1998, and prior to September 30, 2013). Section 905.400 describes the Capital Fund formula. Section 905.400(i)(5) limits the use of replacement housing funds to the development of new public housing. To help address housing needs because of the displacement caused by the MDD, HUD is willing to consider waiving section 905.400(i)(5) to allow all unexpended Capital Fund Replacement Housing Factor Grants to be used for public housing modernization. Should HUD waive this requirement, the waiver will be in effect for funds obligated within 12 months from the date of HUD approval.

G. 24 CFR 960.202(c)(1) (Tenant selection policies) and 982.54(a) (Administrative plan). Section 960.202(c)(1) provides that public housing tenant selection policies must be duly adopted and implemented. Section 982.54(a) provides that a PHA's Section 8 administrative plan must be formally adopted by the PHA Board of Commissioners or other authorized PHA officials. For temporary revisions to an MDD PHA's public housing tenant selection policies or Section 8 administrative plan that an MDD PHA wishes to put into place to address circumstances unique to relief and recovery efforts, HUD is willing to consider requests to waive the requirements under §§ 960.202(c)(1) and 982.54(a) noted above. Any waiver request must include documentation that an MDD PHA's Board of Commissioners or an authorized MDD PHA official supports the waiver request and must identify the temporary revisions, which shall be effective for a period not to exceed 12 months from the date of HUD's approval. Additionally, any waiver request would be limited to revisions that do not constitute a significant amendment or modification to the PHA or MTW plan; pursuant to Section 5A(g) of the 1937 Act, HUD cannot waive the approval by the board or other authorized PHA officials if the proposed revision would constitute a significant amendment or modification to the PHA or MTW plan. Finally, HUD cannot waive any terms within a PHA's own plan or state law requiring the approval of the board or authorized PHA officials.

H. 24 CFR 982.206(a)(2) (Waiting List; Opening and closing; Public notice). This section describes where a PHA must provide public notice when it opens its waiting list for tenant-based assistance. HUD is willing to consider a request from an MDD PHA that wishes, in lieu of the requirement to provide notice in a local newspaper of general circulation, to provide public notice via its website, at any of its offices, and/or in a voice-mail message, for any opening of the waiting list for tenant-based assistance that occurs within a period not to exceed 12 months from the date of HUD approval. MDD PHAs, that request a waiver of this requirement and receive HUD approval, must comply with applicable fair housing and other civil rights requirements when they provide public notice. For example, an MDD PHA that chooses to provide public notice at its offices must consider the impact on persons with disabilities, who may have difficulty visiting the office in-person. Similarly, an MDD PHA that chooses to provide public notice via voice-mail message must consider how it will reach persons with hearing impairments and persons with limited English proficiency. HUD maintains the requirement that an MDD PHA must also provide the public notice in minority media. Any notice must comply with HUD fair housing requirements.

I. 24 CFR 982.503(c) (HUD approval of exception payment standard amount). 24 CFR 982.503(c) authorizes HUD to approve an exception payment standard amount that is higher than 110 percent of the published fair market rent (FMR). Typically, a PHA must provide data about the local market to substantiate the need for an exception payment standard. In a natural disaster situation, however, the typical data sources fail to capture conditions on the ground. In these cases, HUD considers the most recently available data on the rental market, prior to the disaster, then estimates the number of households seeking housing units in the wake of the disaster to arrive at an emergency exception payment standard amount. In the event of a disaster, HUD will consider, based on this data, whether exception payment standard amounts up to 150 percent of the FMR have a good cause justification even in the absence of supporting data. If so, an MDD PHA may request this payment standard. Upon approval by HUD, an exception payment standard adopted pursuant to this notification may be adopted for any Housing Assistance Payments (HAP) contract entered as of the effective date of this notification. HUD intends for these exception payment standards to remain in effect until HUD implements changes to the FMRs in the affected areas. MDD PHAs are reminded that increased per-family costs resulting from the use of exception payment standards may result in a reduction in the number of families assisted or may require other cost-saving measures for an MDD PHA to stay within its funding limitations.

J. 24 CFR 982.401(d) (Housing quality standards; Space and security). This section establishes a standard for adequate space for an HCV-assisted family. Specifically, it requires that each dwelling unit have at least 1 bedroom or living/sleeping room for each 2 persons. HUD is willing to consider a request from an MDD PHA that wishes to waive this requirement to house families displaced due to natural disasters. Should the waiver be granted, it will be in effect only for HAPs entered into during the 12-month period following the date of HUD approval, and then only with the written consent of the family. For any family occupying a unit pursuant to this waiver, the waiver will be in effect for the initial lease term.

K. 24 CFR 982.633(a) (Occupancy of home). This section establishes the requirement that PHAs may make HAP for homeownership assistance only while a family resides in their home and must stop HAP no later than the month after a family moves out. HUD is willing to consider a request from an MDD PHA wishing to waive this requirement to allow families displaced from their homes located in areas affected by MDD(s) to comply with mortgage terms or make necessary repairs. A PHA requesting a waiver of this type must show good cause by demonstrating that the family is not already receiving assistance from another source. Note: An MDD PHA that wishes in addition to request a waiver of the requirement at § 982.312 that a family be terminated from the program if they have been absent from their home for 180 consecutive calendar days must do so separately.

L. 24 CFR 984.303(d) (Contract of participation; contract extension). Part 984 establishes the requirements for the Section 8 and Public Housing Family Self-Sufficiency (FSS) Program. Section 984.303(d) authorizes a PHA to extend a family's contract of participation for a period not to exceed 2 years, upon a finding of good cause, for any family that requests such an extension in writing. HUD is willing to consider a request from an MDD PHA that wishes to extend family contracts for up to 3 years, if such extensions are merited based on circumstances deriving from MDDs. Any waiver granted pursuant to this request will be in effect for requests made to the MDD PHA during a period not to exceed 12 months from the date of HUD approval.

M. 24 CFR part 985 (Section 8 Management Assessment Program (SEMAP)). Part 985 sets out the requirements by which Section 8 tenant-based assistance programs are assessed. For an MDD PHA that has a SEMAP score due during CY 2019, HUD is willing to consider a request to carry forward the last SEMAP score received by the PHA.

N. Notice PIH 2012-10, Section 8(c) (Verification of the Social Security Number (SSN)). PHAs are required to transmit form HUD-50058 not later than 30 calendar days following receipt of an applicant's or participant's SSN documentation. HUD is willing to consider a request to extend this requirement to 90 calendar days, for a period not to exceed 12 months from the date of HUD approval.

O. 24 CFR 970.15(b)(1)(ii). For Section 18 demolition applications (and disposition applications) justified by location obsolescence, in addition to accepting an environmental review performed by HUD under 24 CFR part 50, for MDD PHAs, HUD is willing to accept an environmental review performed under 24 CFR part 58 if HUD determines the part 58 review indicates the environmental conditions jeopardize the suitability of the site or a portion of the site and its housing structures for residential use.

P. 24 CFR 970.15(b)(2). For Section 18 demolition applications justified by obsolescence, HUD requires that PHAs support cost-estimate by a list of specific and detailed work-items that require rehabilitation or repair, as identified on form HUD-52860-B and other criteria outlined in PIH Notice 2018-04, Section A. HUD is willing to consider requests to waive these requirements if MDD PHAs submit other evidence (e.g., insurance adjuster reports, condemnation orders from local municipalities, and photographs) that support the MDD PHA's certification that a program of modifications is not cost-effective.

IV. Notification and Expedited Waiver Process During CY 2019—Instructions

HUD has developed a checklist (Attachment A to this notification) that an MDD PHA must complete and submit to take advantage of the provisions identified in this notification and the expedited review of waiver requests. Each provision on the checklist indicates the documentation that must accompany the MDD PHA's submission. Each request for a waiver (Section 3 of the checklist) must include a good-cause justification stating why the waiver is needed for the PHA's relief and recovery efforts.

To complete the checklist, take the following steps:

1. Copy the checklist found in Attachment A into a new document on your computer, saving the document with the following filename format: FR-6050-N-03-XX123. The Federal Register docket number (FR-6050-N-03), a hyphen, then your Agency's HA Code. For example: FR-6050-N-03-XX123. HUD will consider other methods of submission as needed.

2. Complete the section titled Information about Requesting Agency. This section must be complete. An official of the MDD PHA must sign where indicated. If the information about the requesting agency is incomplete or the checklist has not been signed, then the checklist will be returned without review.

3. Complete Sections 1, 2, and/or 3 of the checklist, as applicable, noting the documentation (if any) that accompanies each provision.

4. Address an email to both PIH_Disaster_Relief@hud.gov and your Field Office Public Housing Director. In the subject line, type “PHA Name—PHA Code—MDD Disaster Relief—Month and Year”

5. Attach the completed checklist, letter of justification, and supporting documentation as applicable to your email.

6. Click “Send.”

Checklists and any supporting documentation or information must be submitted not later than 4 months following the MDD. Requests submitted AFTER that time period will not be considered except in special cases outside of the agency's control.

V. Finding of No Significant Impact

A Finding of No Significant Impact (FONSI) with respect to the environment has been made in accordance with HUD regulations at 24 CFR part 50, which implement section 102(2)(C) of the National Environmental Policy Act of 1969 (42 U.S.C. 4332(2)(C)).

The FONSI is available for public inspection between 8 a.m. and 5 p.m. weekdays in the Regulations Division, Office of General Counsel, Department of Housing and Urban Development, 451 7th Street SW, Room 10276, Washington, DC 20410-0500. Due to security measures at the HUD Headquarters building, an advance appointment to review the docket file must be scheduled by calling the Regulations Division at 202-708-3055 (this is not a toll-free number). Hearing- or speech-impaired individuals may access this number through TTY by calling the Federal Relay Service at 800-877-8339 (this is a toll-free number).

Dated: September 25, 2019.
R. Hunter Kurtz,
Assistant Secretary, Public and Indian Housing.

Attachment A—Checklist

Relief from HUD Requirements Available to Public Housing Agencies During CY 2019 To Assist With Recovery and Relief Efforts on Behalf of Families Affected by Disasters

Information About Requesting Agency

NAME OF PHA:

PHA CODE:

Address:

City or Locality: (must be covered under PDD)

Parish:

Date of Submission:

Signature of PHA Official:

Name/Title of PHA Official:

Phone number of PHA Official:

Section 1. List the Presidentially Declared Disaster Your Agency Is Under

_____

__

__

__

__

Section 2. Insert an “X” Next to the Applicable Flexibilities

An MDD PHA may adopt the flexibilities listed below.

__ A. 24 CFR 905.306 (Extension of deadline for obligation and expenditure of Capital Funds). (Office of Capital Improvements)

My agency requests that HUD extend the deadline for the obligation of Capital Funds for an additional 12 months which is attributable to an effect of the MDD which was beyond the control of the PHA. We will maintain documentation substantiating the need for this extension.

__ B. 24 CFR 984.105 (Family Self-Sufficiency minimum program size). (Housing Voucher Management and Operations; Public Housing Management and Occupancy)

My agency submits the certification required by 24 CFR 984.105(d) and will operate an FSS program that is smaller than the minimum program size for up to 24 months from October 9, 2019.

__ C. 24 CFR 990.145(b) (Public housing dwelling units with approved vacancies). (REAC—Public Housing Financial Management Division)

My agency requests HUD approval to treat certain vacant public housing units in our inventory as approved vacancies for the continued receipt of Operating Subsidy. I have attached a project-by-project listing of the units for which this approval is requested. I understand that any units that remain vacant shall be considered approved vacancies only for a period not to exceed 12 months from the date of HUD approval.

Section 3. Insert an “X” Next to the Applicable Waiver Requests

An MDD PHA may request a waiver of a HUD requirement listed below or of any other HUD requirement and receive expedited review of the request, if the MDD PHA demonstrates that the waiver is needed for relief and recovery purposes. Each request must include a good-cause justification for the waiver, documenting why the waiver is needed for such purposes. No requested waiver may be implemented unless and until written approval from HUD has been obtained.

__ A. 24 CFR 5.801(c) and 5.801(d)(1) (Uniform financial reporting standards; Filing of financial reports; Reporting compliance dates). (REAC)

My agency requests a waiver of 24 CFR 5.801(c) to extend the deadline for reporting unaudited financial information to 180 days and of 24 CFR 5.801(d)(1) to extend the reporting deadline for audited financial information to 13 months.

For requests to waiver the deadlines to report both unaudited financial information and audited financial information.

__ B. 24 CFR part 902 (Public Housing Assessment System). (REAC)

My agency requests a waiver of the property inspection and scoring of public housing projects, as required under 24 CFR part 902.

__ C. 24 CFR 905.322(b) (Fiscal closeout) (Office of Capital Improvements)

My agency requests a waiver of 24 CFR 905.322(b) to extend the deadline for submission of the Actual Development Cost Certificate and the Actual Modernization Cost Certificate by 12 months.

__ D. 24 CFR 905.314(b)-(c) (Cost and other limitations; Maximum project cost; TDC limit). (Office of Capital Improvements)

My agency requests a waiver of 24 CFR 905.314(b)-(c), which establish the calculation of maximum project cost and total development cost limits for the Capital Fund program. My agency will strive to keep housing costs reasonable given local market conditions, based upon the provisions outlined in 2 CFR part 200. I understand that this waiver is in effect only until 2019 TDC limits have been published.

__ E. 24 CFR 905.314(j) (Cost and other limitations; Types of labor) (Office of Capital Improvements)

My agency requests a waiver of 24 CFR 904.314(j) to allow for the use of force account labor for modernization activities even if this activity has not been included in our agency's 5-Year Action Plan. I understand that this waiver will be in effect for a period not to exceed 12 months from the date of HUD approval.

__ F. 24 CFR 905.400(i)(5) (Capital Fund Formula; Replacement Housing Factor to reflect formula needs for projects with demolition or disposition occurring on or after October 1, 1998, and prior to September 2013). (Office of Capital Improvements)

My agency requests a waiver of 24 CFR 905.400(i)(5) to allow for the use of Capital Fund Replacement Housing Factor grants with undisbursed balances for public housing modernization. I understand that this waiver will be in effect only for funds obligated within 12 months from the date of HUD approval.

__ G. 24 CFR 960.202(c)(1) (Tenant selection policies) and 24 CFR 982.54(a) (Administrative plan). (Housing Voucher Management and Operations; Public Housing Management and Occupancy)

My agency requests a waiver of 24 CFR 960.202(c)(1) and/or 24 CFR 982.54(a) so that our public housing tenant selection policies and section 8 administrative plan may be revised on a temporary basis, without formal approval, to address circumstances unique to relief and recovery efforts. I have attached documentation that our Board of Commissioners or an authorized PHA official supports the waiver request. I have also attached documentation identifying the temporary revisions. The adoption of these revisions does not constitute a significant amendment to our PHA or MTW plan, nor does state law prevent us from adopting the revisions without formal approval. I understand that these revisions will be in effect for a period not to exceed 12 months from the date of HUD's approval.

__ H. 24 CFR 982.206(a)(2) (Waiting List; Opening and closing; Public notice). (Housing Voucher Management and Operations)

My agency requests a waiver of 24 CFR 982.206(a)(2) so that we can provide public notice of the opening of our waiting list via our website, at any of our offices, and/or in a voice-mail message in lieu of providing notice in a local newspaper of general circulation. I understand that my agency must comply with the requirements at 24 CFR 982.206(a)(2) to provide public notice in minority media and ensure that the notice complies with HUD fair housing requirements. I understand that this waiver is in effect for a period not to exceed 12 months from the date of HUD approval.

__ I. 24 CFR 982.503(c) (HUD approval of exception payment standard amount). (Housing Voucher Management and Operations)

My agency requests to establish an exception payment standard amount that is higher than 110 percent of the published fair market rent (FMR). I have attached our proposed emergency exception payment standard schedule, which shows both the dollar amounts requested and those amounts as a percentage of the FMRs in effect at the time of the request. I understand that any approved exception payment standard will remain in effect until HUD revises the FMRs for the area. I also understand that increased per-family costs resulting from the use of such exception payment standard may result in a reduction in the number of families assisted or may require my agency to adopt other cost-saving measures.

__ J. 24 CFR 982.401(d) (Housing quality standards; Space and security). (Housing Voucher Management and Operations)

My agency requests a waiver of 24 CFR 982.401(d) so that we may allow families to occupy units that are smaller than our occupancy standards would otherwise dictate. I understand that this waiver is in effect only for HAPs entered into during the 12-month period following the date of HUD approval, and then only with the written consent of the family.

__ K. 24 CFR 982.633(a) (Occupancy of home). (Housing Voucher Management and Operations)

My agency requests a waiver of 24 CFR 982.633(a) so that we may continue HAP for homeownership for families displaced from their homes if needed to comply with mortgage terms or make necessary repairs. We have determined that the family is not receiving assistance from another source. I understand that such payments must cease if the family remains absent from their home for more than 180 consecutive calendar days.

__ L. 24 CFR 984.303(d) (Contract of participation; contract extension). (Public Housing Management and Occupancy; Housing Voucher Management and Operations)

My agency requests a waiver of 24 CFR 984.303(d) so that a family's contract of participation may be extended for up to three years. I understand that such extensions may be made only during the 12-month period following the date of HUD approval.

__ M. 24 CFR 985.101(a) (Section 8 Management Assessment Program (SEMAP)). (Housing Voucher Management and Operations)

My agency requests a waiver of 24 CFR 985.101(a) so that our SEMAP score from the previous year may be carried over. My agency has a fiscal year end of 9/30/17, 12/31/17, or 3/31/18.

__ N. Notice PIH 2012-10, Section 8(c) (Verification of the Social Security Number (SSN)) (REAC)

My agency requests a waiver of section 8(c) of Notice PIH 2012-10 to allow for the submission of Form HUD-50058 90 calendars days from receipt of an applicant's or participant's SSN documentation. I understand that this waiver will be in effect for a period not to exceed 12 months from the date of HUD approval.

__ O. 24 CFR 970.15(b)(1)(ii) (Section 18 Application—Environmental Review) (REAC)

My agency requests a waiver of 24 CFR 970.15(b)(1)(ii) and seeks to complete a Part 58 review instead of a Part 50 where environmental conditions jeopardize the site and its housing structures for residential use.

__ P. 24 CFR 970.15(b)(2) (Section 18 Application—HUD-52860-B) (REAC)

My agency requests a waiver of 24 CFR 970.15(b)(2) and PIH 2018-04 and seeks to submit other supporting evidence of obsolescence (e.g., insurance adjusters reports, photographs, and condemnation orders from local municipalities) where modifications/rehabilitation are not cost-effective.

__ Q. Waivers not identified in FR-6050-N-03.

My agency seeks waivers of the HUD requirements listed below. I have included documentation justifying the need for the waivers.

Regulation | Description
Example: 24 CFR 982.54 | Example: A waiver of this regulation will facilitate our agency's capacity to participate in relief and recovery efforts by . . .

[FR Doc. 2019-21422 Filed 10-8-19; 8:45 am]

BILLING CODE 4210-67-P